DEPARTMENT OF COMMERCE

International Trade Administration

[A-570-979]

Crystalline Silicon Photovoltaic Cells, Whether or Not Assembled Into Modules, from the People's Republic of China: Amended Final Results of Antidumping Duty Administrative Review; 2014-2015

AGENCY: Enforcement and Compliance, International Trade Administration, Department of Commerce.

SUMMARY: The Department of Commerce (the Department) is amending its final results of the third administrative review of the antidumping duty (AD) order on crystalline silicon photovoltaic cells, whether or not assembled into modules (solar cells), from the People's Republic of China (PRC). The period of review (POR) is December 1, 2014, through November 30, 2015. The amended final weighted-average dumping margins are listed below in the section entitled, “Amended Final Results.”

DATES: Applicable August 25, 2017.

FOR FURTHER INFORMATION CONTACT: Krisha Hill, AD/CVD Operations, Office IV, Enforcement & Compliance, International Trade Administration, Department of Commerce, 1401 Constitution Avenue NW, Washington, DC 20230; telephone: (202) 482-4037.

SUPPLEMENTARY INFORMATION:

Background

On June 27, 2017, the Department published the final results of the 2014-2015 administrative review of the AD order on solar cells from the PRC in the Federal Register.¹ In addition, on June 27, 2017, the Department disclosed to interested parties its calculations for the final results.² On June 30, 2017, the Department received a timely filed ministerial error allegation from SolarWorld Americas, Inc. (the petitioner) regarding the Department's calculation of the dumping margin for Trina,³ one of the mandatory respondents in the review.⁴ Specifically, the petitioner alleged that although the Department stated its intent to disallow the debt restructuring offset that Trina made to its indirect selling expenses, the Department made a ministerial error by excluding indirect selling expenses reported in the INDIRSU field from the U.S. indirect selling expenses used in Trina's margin calculations. No rebuttal comments were submitted, nor were any other ministerial error allegations submitted.

¹ See Crystalline Silicon Photovoltaic Cells, Whether or Not Assembled Into Modules, from the People's Republic of China: Final Results of Antidumping Duty Administrative Review and Final Determination of No Shipments; 2014-2015, 82 FR 29033 (June 27, 2017) (Final Results) and accompanying Issues and Decision Memorandum (IDM).

² See Department Letter, re: Antidumping Duty Administrative Review of Crystalline Silicon Photovoltaic Cells, Whether or Not Assembled Into Modules, from the People's Republic of China: Ministerial Error Comments,” dated June 29, 2017.

³ The Department treated the following six companies as a single entity: Changzhou Trina Solar Energy Co., Ltd./Trina Solar (Changzhou) Science & Technology Co., Ltd./Yancheng Trina Solar Energy Technology Co., Ltd./Changzhou Trina Solar Yabang Energy Co., Ltd./Turpan Trina Solar Energy Co., Ltd./Hubei Trina Solar Energy Co., Ltd. (collectively, Trina). See Final Results and accompanying IDM.

⁴ See Petitioner's June 30, 2017, Letter regarding “Certain Crystalline Silicon Photovoltaic Cells, Whether or Not Assembled into Modules, from the People's Republic of China: Comments on Ministerial Errors in the Final Results.”

Scope of the Order

The merchandise covered by the order is crystalline silicon photovoltaic cells, and modules, laminates, and panels, consisting of crystalline silicon photovoltaic cells, whether or not partially or fully assembled into other products, including, but not limited to, modules, laminates, panels and building integrated materials.⁵ Merchandise covered by the order is classifiable under subheading 8501.61.0000, 8507.20.80, 8541.40.6020, 8541.40.6030, and 8501.31.8000 of the Harmonized Tariff Schedule of the United States (HTSUS). Although the HTSUS subheadings are provided for convenience and customs purposes, our written description of the scope of the order is dispositive.

⁵ For a complete description of the scope of the order, see Final Results and accompanying IDM.

Ministerial Error

19 CFR 351.224(e) provides that the Department will analyze any comments received and, if appropriate, correct any ministerial error by amending the final determination or the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

We analyzed the petitioner's ministerial error comments and determined, in accordance with section 751(h) of the Act and 19 CFR 351.224(e) and (f), that we made a ministerial error in our calculation of Trina's dumping margin by inadvertently not including indirect selling expenses reported in the INDIRSU field in the U.S. indirect selling expenses used in our margin calculations. Specifically, in the Final Results, we inadvertently treated the INDIRS2U field as reflecting total indirect selling expenses, including the expenses reflected under the INDIRSU field. However, the INDIRS2U field only reflects the additional expense that should be added to INDIRSU field if the debt restructuring offset was denied. We are correcting this ministerial error by including the indirect selling expenses reported in the INDIRSU field in Trina's U.S. indirect sales expenses.⁶

⁶ See memorandum: “Amended Final Results Analysis Memorandum for Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd.,” dated August 21, 2017.

Additionally, because the dumping margin for separate rate companies that the Department did not individually examine, but which demonstrated their eligibility for a separate rate, is based on the mandatory respondents' dumping margins,⁷ we also are revising the dumping margin for companies not individually examined in this review as a result of our correction to Trina's dumping margin. The dumping margin for the second mandatory respondent, Canadian Solar,⁸ remains unchanged from the dumping margin calculated in the Final Results.⁹

⁷ See Final Results, 82 FR 29035; see also memorandum: “Calculation of the Amended Final Dumping Margin for Separate Rate Recipients,” dated August 21, 2017.

⁸ The Department treated the following six companies as a single entity: Canadian Solar International Limited/Canadian Solar Manufacturing (Changshu), Inc./Canadian Solar Manufacturing (Luoyang), Inc./CSI Cells Co., Ltd./CSI-GCL Solar Manufacturing (YanCheng) Co., Ltd./CSI Solar Power (China) Inc. (collectively, Canadian Solar).

⁹ The dumping margin for Canadian Solar remains 13.07 percent. See Final Results, 82 FR 29035.

Amended Final Results

As a result of correcting this ministerial error, we determine that the following weighted-average dumping margins exist for the POR:

Exporter | Weighted- average dumping margins (Percent)
Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd | 5.82
Chint Solar (Zhejiang) Co., Ltd | 7.82
ERA Solar Co., Ltd | 7.82
ET Solar Energy Limited | 7.82
Hangzhou Sunny Energy Science & Technology Co., Ltd | 7.82
Hengdian Group DMEGC Magnetics Co., Ltd | 7.82
JA Solar Technology Yangzhou Co., Ltd | 7.82
Jiawei Solarchina (Shenzhen) Co., Ltd | 7.82
Jiawei Solarchina Co., Ltd | 7.82
JingAo Solar Co., Ltd | 7.82
Lightway Green New Energy Co., Ltd | 7.82
Ningbo ETDZ Holdings, Ltd | 7.82
Risen Energy Co., Ltd | 7.82
Shanghai BYD Co., Ltd | 7.82
Shanghai JA Solar Technology Co., Ltd | 7.82
Shenzhen Sungold Solar Co., Ltd | 7.82
Shenzhen Topray Solar Co., Ltd | 7.82
Star Power International Limited | 7.82
Systemes Versilis, Inc | 7.82
Taizhou BD Trade Co., Ltd | 7.82
tenKsolar (Shanghai) Co., Ltd | 7.82
Toenergy Technology Hangzhou Co., Ltd | 7.82
Wuxi Tianran Photovoltaic Co., Ltd | 7.82
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 7.82
Zhejiang Era Solar Technology Co., Ltd | 7.82
Zhejiang Sunflower Light Energy Science & Technology Limited Liability Company | 7.82

Assessment

The Department will determine, and CBP shall assess, antidumping duties on all appropriate entries covered by this review. The Department intends to issue assessment instructions to CBP 15 days after the publication date of these Amended Final Results. In accordance with 19 CFR 351.212(b)(1), we are calculating importer- (or customer-) specific assessment rates for the merchandise subject to this review. For any individually examined respondent whose weighted-average dumping margin is above de minimis (i.e., 0.50 percent), the Department will calculate importer- (or customer-) specific assessment rates for merchandise subject to this review. Where the respondent reported reliable entered values, the Department calculated importer- (or customer-) specific ad valorem rates by aggregating the dumping margins calculated for all U.S. sales to the importer- (or customer) and dividing this amount by the total entered value of the sales to the importer- (or customer).¹⁰ Where the Department calculated an importer- (or customer-) specific weighted-average dumping margin by dividing the total amount of dumping for reviewed sales to the importer- (or customer) by the total sales quantity associated with those transactions, the Department will direct CBP to assess importer- (or customer-) specific assessment rates based on the resulting per-unit rates.¹¹ Where an importer- (or customer-) specific ad valorem or per-unit rate is greater than de minimis, the Department will instruct CBP to collect the appropriate duties at the time of liquidation. Where either the respondent's weighted average dumping margin is zero or de minimis, or an importer (or customer-) specific ad valorem or per-unit rate is zero or de minimis, the Department will instruct CBP to liquidate appropriate entries without regard to antidumping duties.¹²

¹⁰ See 19 CFR 351.212(b)(1).

¹¹ Id.

¹² See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), the Department will instruct CBP to liquidate such entries at the PRC-wide rate. Additionally, if the Department determines that an exporter under review had no shipments of the subject merchandise, any suspended entries that entered under that exporter's case number will be liquidated at the PRC-wide rate.¹³

¹³ See Non-Market Economy Antidumping Proceedings: Assessment of Antidumping Duties, 76 FR 65694 (October 24, 2011), for a full discussion of this practice.

Cash Deposit Requirements

The following cash deposit requirements will be effective for all shipments of the subject merchandise entered, or withdrawn from warehouse, for consumption on or after June 27, 2017, the date of publication of the Final Results, as provided for by section 751(a)(2)(C) of the Act: (1) For the exporters listed above, the cash deposit rate will be the rate listed for each exporter in the table in the “Amended Final Results” section of this notice, except if the rate is zero or de minimis (i.e., less than 0.5 percent), then the cash deposit rate will be zero; (2) for previously investigated PRC and non-PRC exporters that received a separate rate in a prior segment of this proceeding, the cash deposit rate will continue to be the existing exporter-specific rate; (3) for all PRC exporters of subject merchandise that have not been found to be entitled to a separate rate, the cash deposit rate will be the rate previously established for the PRC-wide entity (i.e., 238.95 percent); and (4) for all non-PRC exporters of subject merchandise which have not received their own rate, the cash deposit rate will be the rate applicable to the PRC exporter that supplied that non-PRC exporter. These deposit requirements, when imposed, shall remain in effect until further notice.

Disclosure

We intend to disclose the calculations performed for these Amended Final Results within five days of publication of this notice in the Federal Register in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of double antidumping duties.

Notification Regarding Administrative Protective Orders (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These amended final results and notice are issued and published in accordance with sections 751(h) and 777(i) of the Act and 19 CFR 351.224(e).

Dated: August 21, 2017.
Gary Taverman,
Deputy Assistant Secretary for Antidumping and Countervailing Duty Operations, performing the non-exclusive functions and duties of the Assistant Secretary for Enforcement and Compliance.

[FR Doc. 2017-18047 Filed 8-24-17; 8:45 am]

BILLING CODE 3510-DS-P